SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and extensions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov.

(SSA)

Social Security Administration, OLCA, Attn: Reports Clearance Director, 3100 West High Rise, 6401 Security Blvd., Baltimore, MD 21235, Fax: 410-966-2830, Email address: OR.Reports.Clearance@ssa.gov.

I. The information collection below is pending at SSA. SSA will submit it to OMB within 60 days from the date of this notice. To be sure we consider your comments, we must receive them no later than November 25, 2014. Individuals can obtain copies of the collection instruments by writing to the above email address.

Request to Show Cause for Failure to Appear—20 CFR 404.938, 20 CFR 416.1438, and 20 CFR 404.957(a)(ii)—0960-0794. When claimants who requested a hearing before an administrative law judge (ALJ) fail to appear at their scheduled hearing, the ALJ may reschedule the hearing if the claimants establish good cause for missing the hearings. To establish good cause, claimants must show one of the following: (1) SSA did not properly notify the claimant of the hearing, or (2) an unexpected event occurred without sufficient time for the claimant to request a postponement. The claimants can use paper Form HA-L90 to provide their reason for not appearing at their scheduled hearings, or the claimants' representatives can use Electronic Records Express to submit the HA-L90 online. If the ALJ determines the claimants established good cause for failure to appear at the hearing, the ALJ will schedule a supplemental hearing; if not, the ALJ will make a claims eligibility determination based on the claimants' evidence of record. Respondents are claimants, or their representatives, seeking to establish good cause for failure to appear at a scheduled hearing before an ALJ.

Type of Request: Extension of an OMB-approved information collection.

Modality of completion | Number of responses | Frequency of response | Average burden per response (minutes) | Estimated total annual burden (hours)
HA-L90 (paper or Electronic Records Express) | 40,000 | 1 | 10 | 6,667

II. SSA submitted the information collections below to OMB for clearance. Your comments regarding the information collections would be most useful if OMB and SSA receive them 30 days from the date of this publication. To be sure we consider your comments, we must receive them no later than October 27, 2014. Individuals can obtain copies of the OMB clearance packages by writing to OR.Reports.Clearance@ssa.gov.

Modality of completion | Number of respondents | Frequency of response | Average burden per response (minutes) | Estimated total burden (hours)
Television | 1,000 | 2 | 1 | 33

1. Application for Search of Census Records for Proof of Age—20 CFR 404.716—0960-0097. When preferred evidence of age is not available, or the available evidence is not convincing, SSA may ask the U.S. Department of Commerce, Bureau of the Census, to search its records to establish a claimant's date of birth. SSA collects information from claimants using Form SSA-1535-U3 to provide the Census Bureau with sufficient identification information to allow an accurate search of census records. Additionally, the Census Bureau uses a completed, signed SSA-1535-U3 to bill SSA for the search. The respondents are applicants for Social Security benefits who need to establish their date of birth as a factor of entitlement.

Type of Request: Revision of an OMB-approved information collection.

Modality of completion | Number of respondents | Frequency of response | Average burden per response (minutes) | Estimated total annual burden (hours)
SSA-1535-U3 | 18,030 | 1 | 12 | 3,606

2. Public Information Campaign—0960-0544. Periodically, SSA sends various public information materials, including public service announcements, news releases, and educational tapes, to public broadcasting systems so they can inform the public about various programs and activities SSA conducts. SSA frequently sends follow-up business reply cards for these public information materials to obtain suggestions for improving them. The respondents are broadcast television sources.

Type of Request: Extension of an OMB-approved information collection.

3. Medicare Subsidy Quality Review Forms—20 CFR 418(b)(5)—0960-0707. The Medicare Modernization Act of 2003 mandated the creation of the Medicare Part D prescription drug coverage program and provides certain subsidies for eligible Medicare beneficiaries to help pay for the cost of prescription drugs. As part of its stewardship duties of the Medicare Part D subsidy program, SSA must periodic quality review checks of the information Medicare beneficiaries report on their subsidy applications (Form SSA-1020). SSA uses the Medicare Quality Review program to conduct these checks. The respondents are applicants for the Medicare Part D subsidy whom SSA chose to undergo a quality review.

Type of Request: Revision of an OMB-approved information collection.

Modality of completion | Number of respondents | Frequency of response | Average burden per response (minutes) | Estimated total annual burden (hours)
SSA-9301 (Medicare Subsidy Quality Review Case Analysis Questionnaire) | 3,500 | 1 | 30 | 1,750
SSA-9302 (Notice of Quality Review Acknowledgement Form for those with Phones) | 3,500 | 1 | 15 | 875
SSA-9303 (Notice of Quality Review Acknowledgement Form for those without Phones) | 350 | 1 | 15 | 88
SSA-9304 (Checklist of Required Information; burden accounted for with forms SSA-9302, SSA-9303, SSA-9311, SSA-9314) |  |  |  |
SSA-9308 (Request for Information) | 7,000 | 1 | 15 | 1,750
SSA-9310 (Request for Documents) | 3,500 | 1 | 5 | 292
SSA-9311 (Notice of Appointment—Denial—Reviewer Will Call) | 450 | 1 | 15 | 113
SSA-9312 (Notice of Appointment—Denial—Please Call Reviewer) | 50 | 1 | 15 | 13
SSA-9313 (Notice of Quality Review Acknowledgement Form for those with Phones) | 2,500 | 1 | 15 | 625
SSA-9314 (Notice of Quality Review Acknowledgement Form for those without Phones) | 500 | 1 | 15 | 125
SSA-8510 (Authorization to the Social Security Administration to Obtain Personal Information) | 3,500 | 1 | 5 | 292
Totals | 24,850 |  |  | 5,923

4. Application to Collect a Fee for Payee Service—20 CFR 416.640.640(a), 416.1103(f)—0960-0719. Sections 205(j)(4)(A) and (B) and 1631(a)(2) of the Social Security Act (Act) allow SSA to authorize certain organizational representative payees to collect a fee for providing payee services. Before an organization may collect this fee, they complete and submit Form SSA-445. SSA uses the information to determine whether to authorize or deny permission to collect fees for payee services. The respondents are private sector businesses or State and local government offices applying to become fee-for-service organizational representative payees.

Type of Request: Revision of an OMB-approved information collection.

Modality of completion | Number of responses | Frequency of response | Average burden per response (minutes) | Estimated total annual burden (hours)
Private sector business | 90 | 1 | 10 | 15
State/local government offices | 10 | 1 | 10 | 2
Totals | 100 |  |  | 17

5. Redetermination of Eligibility for Help with Medicare Prescription Drug Plan Costs—0960-0723. As per the requirements of the Medicare Modernization Act of 2003, SSA conducts low-income subsidy eligibility redeterminations for Medicare beneficiaries who currently receive the Medicare Part D subsidy and who meet certain criteria. Respondents complete Form SSA-1026-REDE under the following circumstances: (1) When individuals became entitled to the Medicare Part D subsidy during the past 12 months; (2) if they were eligible for the Part D subsidy for more than 12 months; or (3) if they reported a change in income, resources, or household size. Part D beneficiaries complete the SSA-1026-SCE when they need to report a potentially subsidy-changing event, including the following: (1) Marriage, (2) spousal separation, (3) divorce, (4) annulment of a marriage, (5) spousal death, or (6) moving back in with one's spouse following a separation. The respondents are current recipients of the Medicare Part D low-income subsidy who will undergo an eligibility redetermination for one of the reasons mentioned above.

Note: SSA incorrectly published this information collection as a revision on July 23, 2014 at 79 FR 42863. As we are not making any revisions to this collection; this is extension of an OMB-approved information collection.

Type of Request: Extension of an OMB-approved information collection.

Modality of completion | Number of respondents | Frequency of response | Average burden per response (minutes) | Estimated total annual burden (hours)
SSA-1026-OCR-MS-SCE | 9,176 | 1 | 18 | 2,753
SSA-1026-OCR-SM-REDE | 161,766 | 1 | 18 | 48,530
Total | 170,942 |  |  | 51,283

6. Electronic Records Express (Third Parties)—20 CFR 404.1700—404.1715—0960-0767. Electronic Records Express (ERE) is an online system which enables medical providers and various third party representatives to download and submit disability claimant information electronically to SSA as part of the disability application process. To ensure only authorized people access ERE, SSA requires third parties to complete a unique registration process if they wish to use this system. This information collection request (ICR) includes the third-party registration process; the burden for submitting evidence to SSA is part of other, various ICRs. The respondents are third party representatives of disability applicants or recipients who want to use ERE to electronically access clients' disability files online and submit information to SSA.

Type of Request: Revision of an OMB-approved information collection.

Modality of completion | Number of respondents | Frequency of response | Number of responses | Average burden per response (minutes) | Estimated total annual burden (hours)
ERE | 12,000 | 281 | (3,372,000) | 1 | 56,200

7. Screen Pop—20 CFR 401.45—0960-0790. Section 205(a) of the Act requires SSA to verify the identity of individuals who request a record or information pertaining to themselves, and to establish procedures for disclosing personal information. SSA established Screen Pop, an automated telephone process, to increase speed of verification for such individuals. Accessing Screen Pop, callers enter their Social Security number (SSN) using their telephone keypad or speech technology prior to speaking with a National 800 Number Network (N8NN) agent. The automated Screen Pop application collects the SSN and routes it to the “Start New Call” Customer Help and Information (CHIP) screen. Functionality for the Screen Pop application ends once the SSN connects to the CHIP screen and the SSN routes to the agent's screen. When the call connects to the N8NN agent, the agent can use the SSN to access the caller's record as needed. The respondents for this collection are individuals who contact SSA's N8NN to speak with an agent.

Type of Request: Extension of an OMB-approved information collection.

Note: SSA incorrectly published this information collection as a revision on July 23, 2014, at 79 FR 42863. As we are not making any revisions to this collection, this is an extension of an OMB-approved information collection.

Modality of completion | Number of responses | Frequency of response | Average burden per response (minutes) | Estimated total annual burden (hours)
Screen Pop | 55,600,0000 | 1 | 1 | 926,667

Dated: September 23, 2014.
Faye Lipsky,
Reports Clearance Director, Social Security Administration.

[FR Doc. 2014-22923 Filed 9-25-14; 8:45 am]

BILLING CODE 4191-02-P